DEPARTMENT OF THE INTERIOR

Fish and Wildlife Service

Notice of Intent To Revise a Comprehensive Conservation Plan and Associated Environmental Impact Statement for the Kenai National Wildlife Refuge, Soldotna, AK

AGENCY: Fish and Wildlife Service, Department of the Interior.

ACTION: Notice of intent.

SUMMARY: This notice advises the public that the U.S. Fish and Wildlife Service (Service) intends to gather information necessary to revise the Comprehensive Conservation Plan (Plan) and an associated Environmental Impact Statement, pursuant to the National Environmental Policy Act and its implementing regulations, for the Kenai National Wildlife Refuge, Soldotna, Alaska. The Service is furnishing this notice in compliance with the National Wildlife Refuge System Administration Act of 1966, as amended, and with Service planning policy to advise other agencies and the public of our intentions and to obtain suggestions and information on the scope of issues to be addressed in the environmental documents.

Special mailings, newspaper articles, and other media announcements will inform people of opportunities to provide written input throughout the planning process. Public meetings will be held in communities near the Refuge (e.g., Cooper Landing, Soldotna, Seward, and Homer) and in the city of Anchorage. The Draft and Final Plans and associated Environmental Impact Statement will be available for viewing and downloading at http://www.r7.fws.gov/planning.

ADDRESSES: Address comments, questions, and requests to Rob Campellone, Planning Team Leader, U.S. Fish and Wildlife Service, 1011 East Tudor Rd., MS-231, Anchorage, AK 99503, or fw7_kenai_planning@fws.gov.

FOR FURTHER INFORMATION, CONTACT: Rob Campellone, Planning Team Leader, U.S. Fish and Wildlife Service, 1011 East Tudor Rd. MS-231, Anchorage, AK 99503 or fw7_kenai_planning@fws.gov. Additional information concerning the Plan can be found at http://www.r7.fws.gov/planning and concerning the Refuge at http://refuges.fws.gov.

SUPPLEMENTARY INFORMATION: By Federal law (National Wildlife Refuge System Administration Act of 1966, as amended by the National Wildlife Refuge System Improvement Act of 1997 (Administration Act) [16 U.S.C. 668dd-668ee]), all lands within the National Wildlife Refuge System are to be managed in accordance with an approved Comprehensive Conservation Plan. Section 304(g) of the Alaska National Interest Lands Conservation Act (Pub. L. 96-487, 94 Stat. 2371) also directs that these plans be prepared. During the planning process, the planning team reviews a wide range of Refuge administrative requirements, including conservation of the Refuge's fish and wildlife populations and habitats in their natural diversity; facilitation of subsistence use by local residents and access for traditional recreational activities; and conservation of resource values, including cultural resources, wilderness, and wild rivers.

The final revised Plan will detail the programs, activities, and measures necessary to best administer the Refuge to protect these values and to fulfill Refuge purposes. The Comprehensive Conservation Plan and associated Environmental Impact Statement will describe and evaluate a range of reasonable alternatives and the anticipated impacts of each. Public input into the planning process is essential.

The Plan will provide other agencies and the public with information to facilitate understanding of the desired conditions for the Refuge and how the Service will implement management strategies.

The Service will prepare an Environmental Impact Statement in accordance with procedures for implementing the National Environmental Policy Act of 1969 (42 U.S.C. 4321-4370d).

The Kenai National Wildlife Refuge covers approximately two million acres, roughly equivalent to the states of Delaware and Rhode Island combined. It occupies much of the Kenai Peninsula and is readily accessible from the city of Anchorage, which contains 41.5 percent of the state's population. The Kenai Refuge consists of the western slopes of the Kenai Mountains and forested lowlands bordering Cook Inlet. The Kenai Mountains, with their glaciers, rise to more than 6,500 feet. Treeless alpine and subalpine habitats are the home of mountain goats, Dall sheep, caribou, wolverine, marmots, and ptarmigan. Boreal forests extend to 1,800 feet above sea level and are composed of spruce and birch forests intermingled with hundreds of lakes. Boreal forests are home to moose, wolves, black and brown bears, lynx, snowshoe hares, and numerous species of neotropical birds such as olive-sided flycatchers, myrtle warblers, and ruby-crowned kinglets. At sea level, the Refuge encompasses the last remaining pristine major salt water estuary on the Kenai Peninsula: the Chickaloon River Flats. The flats provide a major migratory staging area and nesting habitat for thousands of shorebirds and waterfowl throughout the spring, summer, and fall. The flats are also used as a haul-out area by harbor seals, and thousands of salmon migrate up the Chickaloon River system each year to spawn.

The Alaska National Interests Land Conservation Act of 1980 (Section 303[4]) sets forth the following major purposes for which the Kenai Refuge was established and is to be managed:

(i) To conserve fish and wildlife populations and habitats in their natural diversity including, but not limited to, moose, bear, mountain goats, Dall sheep, wolves and other furbearers, salmonoids and other fish, waterfowl and other migratory and nonmigratory birds;

(ii) To fulfill the international treaty obligations of the United States with respect to fish and wildlife and their habitats;

(iii) To ensure, to the maximum extent practicable and in a manner consistent with the purposes set forth in paragraph (i), water quality and necessary water quantity within the Refuge;

(iv) To provide in a manner consistent with subparagraphs (i) and (ii), opportunities for scientific research, interpretation, environmental education, and land management training; and

(v) To provide, in a manner compatible with these purposes, opportunities for fish and wildlife-oriented recreation.

The Comprehensive Conservation Plan for Kenai National Wildlife Refuge was completed in 1985. It is being revised consistent with Section 304(g) of the Alaska National Interest Lands Conservation Act, the National Wildlife Refuge System Improvement Act of 1997, and U.S. Fish and Wildlife Service planning policy.

Dated: November 7, 2003.
Rowan Gould,
Regional Director, U.S. Fish and Wildlife Service, Anchorage, Alaska.

[FR Doc. 03-29303 Filed 11-25-03; 8:45 am]

BILLING CODE 4310-55-P